INTERNATIONAL TRADE COMMISSION

[Investigation No. 731-TA-1339 (Final)]

Steel Concrete Reinforcing Bar From Taiwan; Supplemental Schedule for the Subject Investigation

AGENCY: United States International Trade Commission.

ACTION: Notice.

DATES: July 27, 2017.

FOR FURTHER INFORMATION CONTACT: Amelia Shister (202-205-2047), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective March 2, 2017, the Commission established a general schedule for the conduct of the final phase of its investigations on steel concrete reinforcing bar from Japan, Taiwan, and Turkey.¹ The Department of Commerce's preliminary determination for imports from Taiwan was published on March 7, 2017.² The Department of Commerce's final determination for imports from Taiwan was published on July 27, 2017.³ The Commission, therefore, is issuing a supplemental schedule for its investigation on imports of steel concrete reinforcing bar from Taiwan.

¹ Steel Concrete Reinforcing Bar From Japan, Taiwan, and Turkey; Scheduling of the Final Phase of Countervailing Duty and Antidumping Duty Investigations, 82 FR 13854, March 15, 2017.

² Steel Concrete Reinforcing Bar From Taiwan: Preliminary Affirmative Determination of Sales at Less Than Fair Value, Postponement of Final Determination, and Extension of Provisional Measures, 81 FR 12800, March 7, 2017.

³ Steel Concrete Reinforcing Bar From Taiwan: Final Determination of Sales at Less Than Fair Value, 82 FR 34925, July 27, 2017.

The Commission's supplemental schedule is as follows: The deadline for filing supplemental party comments on Commerce's final determination is August 7, 2017; the staff report in the final phase of this investigation will be placed in the nonpublic record on August 10, 2017; and a public version will be issued thereafter.

Supplemental party comments may address only Commerce's final determination regarding imports from Taiwan. These supplemental final comments may not contain new factual information and may not exceed five (5) pages in length.

For further information concerning this investigation see the Commission's notice cited above and the Commission's Rules of Practice and Procedure, part 201, subparts A and B (19 CFR part 201), and part 207, subparts A and C (19 CFR part 207).

Authority: This investigation is being conducted under authority of title VII of the Tariff Act of 1930; this notice is published pursuant to section 207.21 of the Commission's rules.

By order of the Commission.
Issued: August 1, 2017.
William R. Bishop,
Supervisory Hearings and Information Officer.

[FR Doc. 2017-16480 Filed 8-4-17; 8:45 am]

BILLING CODE 7020-02-P